DEPARTMENT OF LABOR

Occupational Safety and Health Administration

29 CFR Part 1904

[Docket No. OSHA-2009-0044]

RIN 1218-AC45

Occupational Injury and Illness Recording and Reporting Requirements

AGENCY: Occupational Safety and Health Administration (OSHA), Labor.

ACTION: Extension of comment period.

SUMMARY: OSHA is extending the comment period on the proposed rule on Occupational Injury and Illness Recording and Reporting Requirements to March 30, 2010. The proposal would restore a column to the OSHA 300 Log that employers would use to record work-related musculoskeletal disorders (MSDs).

DATES: The comment period for the proposed rule published January 29, 2010, at 75 FR 4728, is extended. Comments must be submitted (postmarked, sent or received) by March 30, 2010.

ADDRESSES: You may submit comments, identified by Docket No. OSHA-2009-0044, by any one of the following methods:

Electronically: You may submit comments and attachments electronically at http://www.regulations.gov, the Federal eRulemaking Portal. Follow the instructions on-line for making electronic submissions.

Fax: If your comments, including attachments, do not exceed 10 pages, you may fax them to the OSHA Docket Office at (202) 693-1648.

Mail, hand delivery, express mail, messenger or courier service: You must submit three copies of your comments and attachments to the OSHA Docket Office, Docket No. OSHA-2009-0044, U.S. Department of Labor, Room N-2625, 200 Constitution Avenue, NW., Washington, DC 20210; telephone (202) 693-2350 (OSHA's TTY number is (877) 889-5627). Deliveries (hand, express mail, messenger and courier service) are accepted during the Department of Labor's and Docket Office's normal business hours, 8:15 a.m.-4:45 p.m., e.t.

Instructions: All submissions must include the docket number (Docket No. OSHA-2009-0044) or RIN number (RIN 1218-AC45) for this rulemaking. Because of security-related procedures, submission by regular mail may result in significant delay. Please contact the OSHA Docket Office about security procedures for hand delivery, express delivery, messenger or courier.

All comments, including any personal information you provide, are placed in the public docket without change and may be made available on http://www.regulations.gov. Therefore, OSHA cautions you about submitting personal information such as social security numbers and birthdates.

Docket: To read or download submissions in response to the proposed rule, go to Docket No. OSHA-2009-0044 at http://www.regulations.gov. All submissions are listed in the http://www.regulations.gov index, however, some information (e.g., copyrighted material) is not publicly available to read or download through that Web page. All submissions, including copyrighted material, are available for inspections and copying at the OSHA Docket Office.

Electronic copies of this Federal Register document are available at http://www.regulations.gov. This document, as well as news releases and other relevant information, also are available at OSHA's Web page at http://www.osha.gov.

FOR FURTHER INFORMATION CONTACT: Press inquiries: Jennifer Ashley, Director, OSHA, Office of Communications, Room N-3647, U.S. Department of Labor, 200 Constitution Avenue, NW., Washington, DC 20210; telephone (202) 693-1999.

For general and technical information: Jim Maddux, Acting Deputy Director, OSHA, Directorate of Standards and Guidance, Room N-3718, U.S. Department of Labor, 200 Constitution Avenue, NW., Washington, DC 20210; telephone (202) 693-1950.

SUPPLEMENTARY INFORMATION: On January 29, 2010, OSHA published a proposed rule to revise its regulation on Occupational Injury and Illness Recording and Reporting (Recordkeeping) (75 FR 4728). The proposal would restore a column to the OSHA 300 Log that employers would use to record work-related musculoskeletal disorders (MSDs). The proposal set a March 16, 2010 deadline for submitting written comments.

OSHA has received requests from several entities, including the Chamber of Commerce, National Association of Manufacturers, National Association of Home Builders, Associated Builders and Contractors, and IPC (Association Connecting Electronics Industries) to extend the comment period between 15 to 45 additional days. Their reasons for requesting an extension include the severe February snowstorms, which stakeholders said shut down or severely hampered access to their workplaces for more than a week, leaving them unable to access their offices or meet with their members. The requests also noted that while the proposed rule said OSHA was providing 60 days for public comment (75 FR 4739), the deadline in the DATES section only provided 45 days.

OSHA has decided to extend the deadline for submitting comments to March 30, 2010, which provides stakeholders an additional 15 days, as IPC requested. The extension ensures that stakeholders will have had a full 60 days to submit comments, which OSHA believes is adequate for this limited rulemaking. The extension also ensures that stakeholders attending the public meeting on the proposed rule on March 9, 2010 have an opportunity to incorporate into their comments their views on relevant information presented at the meeting.

Authority and Signature

This document was prepared under the direction of David Michaels, PhD, MPH, Assistant Secretary of Labor for Occupational Safety and Health. It is issued under the authority of Sections 8 and 24 of the Occupational Safety and Health Act of 1970 (29 U.S.C. 657, 673), 5 U.S.C. 553, and Secretary of Labor's Order No. 5-2007 (72 FR 31160).

Signed at Washington, DC, this 4th of March 2010.
David Michaels,
Assistant Secretary of Labor for Occupational Safety and Health.

[FR Doc. 2010-4988 Filed 3-8-10; 8:45 am]

BILLING CODE 4510-26-P